INTERNATIONAL TRADE COMMISSION

Temporary Change to Filing Procedures

AGENCY: United States International Trade Commission.

ACTION: Notice.

SUMMARY: The United States International Trade Commission (Commission) hereby notifies all users of its Electronic Document Information System (EDIS) that the system will not be available for use from 6 p.m. on Thursday, March 26, 2009, until 6 a.m. on Monday, March 30, 2009. Alternative filing procedures will apply, as outlined below.

DATES: March 26-March 30, 2009.

FOR FURTHER INFORMATION CONTACT: Telephone inquiries should be directed to EDIS Help (202-205-3347) or Docket Services (202-205-1802). E-mail inquiries should be directed to (Edishelp@usitc.gov). Written inquiries should be directed to Marilyn R. Abbott, Secretary, United States International Trade Commission, 500 E Street, SW., Room 112, Washington, DC 20436. At times other than the period specified herein, EDIS may be viewed at http://edis.usitc.gov. General information concerning the Commission may also be obtained by accessing its World Wide Web site (http://www.usitc.gov).

SUPPLEMENTARY INFORMATION: In 1996, the Commission established EDIS to store and provide access to docket records in agency proceedings. In 2003, the Commission implemented a document management system (EDIS-II, http://edis.usitc.gov) with the capability to accept documents electronically. The Commission's Rules of Practice and Procedure currently provide for the filing of certain documents in electronic form.

Since 2003, EDIS technologies have become outdated and the hardware is beyond its useful life. The Commission has developed and is ready to implement a new EDIS system in order to improve its technical performance. The newly re-engineered system, known as EDIS3, will become operational on March 30, 2009.

In order to switch from the existing EDIS to EDIS3, the Commission must turn the system off for approximately 84 hours to accommodate data migration, system testing, and related tasks. As a result, EDIS will not be available from 6 p.m. Thursday, March 26, 2009, until 6 a.m. Monday, March 30, 2009.

Section 335 of the Tariff Act of 1930 (19 U.S.C. 1335) authorizes the Commission to adopt such reasonable procedures, rules, and regulations as it deems necessary to carry out its functions and duties. The Commission is temporarily suspending its filing procedures for the period of system unavailability, specifically prohibiting electronic filing and access to electronic viewing of documents during the period when EDIS is not available. All paper filings will be accepted in accordance with applicable rules. However, no EDIS Cover Sheets will be available because they cannot be generated by EDIS. A temporary Docket Cover Sheet is available on the Commission Web site as a fillable .pdf form at the following location: http://www.usitc.gov/docketservices/temporary_edis_cover.pdf . In order to comply with the requirements of Commission rule 201.8 (19 CFR 201.8), a person filing a document with the Commission while EDIS is shut down, must submit with the filing a valid Docket Cover Sheet prepared using this temporary form.

By order of the Commission.
Issued: March 10, 2009.
Marilyn R. Abbott,
Secretary.

[FR Doc. E9-5468 Filed 3-12-09; 8:45 am]

BILLING CODE 7020-02-P